DEPARTMENT OF VETERANS AFFAIRS

[OMB Control No. 2900-0325]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before July 15, 2004.

FOR FURTHER INFORMATION CONTACT: Denise McLamb, Records Management Service (005E3), Department of Veterans Affairs, 810 Vermont Avenue, NW., or e-mail denise.mclamb@mail.va.gov. Please refer to “OMB Control No. 2900-0325.” Send comments and recommendations concerning any aspect of the information collection to VA's OMB Desk Officer, OMB Human Resources and Housing Branch, New Executive Office Building, Room 10235, Washington, DC 20503 (202) 395-7316. Please refer to “OMB Control No. 2900-0325” in any correspondence.

SUPPLEMENTARY INFORMATION: Title: Certificate of Delivery of Advance Payment and Enrollment, VA Form 22-1999V.

OMB Control Number: 2900-0325.

Type of Review: Extension of a currently approved collection.

Abstract: VA will make payments of educational assistance in advance when the veteran, servicemember, reservist, or eligible person has specifically requested such payment. The school in which the student is accepted or enrolled delivers the advance payment to the student and is required to certify the delivers to VA. VA Form 22-1999V serves as the certificate of delivery of advance payment and to report any changes in the student's training status. The schools are required to report the following to VA: (1) The failure of the student to enroll; (2) an interruption or termination of attendance; or, (3) a finding of unsatisfactory attendance, conduct or progress. If the information were not collected or collected less often, VA will be unable to prevent inaccurate payments.

An agency may not conduct or sponsor, and a person is not required to respond to a collection of information unless it displays a currently valid OMB control number. The Federal Register notice with a 60-day comment period soliciting comments on this collection of information was published on February 2, 2004, at pages 4987-4988.

Affected Public: Business or other for-profit, not-for-profit institutions, and State, local or tribal government.

Estimated Annual Burden: 1,133 hours.

Estimated Average Burden Per Respondent: 5 minutes.

Frequency of Response: On occasion.

Estimated Number of Respondents: 8,000.

Estimated Total Number of Respondents: 13,600.

Dated: June 2, 2004.
By direction of the Secretary.
Loise Russell,
Director, Records Management Service.

[FR Doc. 04-13446 Filed 6-14-04; 8:45 am]

BILLING CODE 8320-01-P